DEPARTMENT OF ENERGY

Federal Energy Regulatory Commission

Combined Notice of Filings

Take notice that the Commission has received the following Natural Gas Pipeline Rate and Refund Report filings:

Filings Instituting Proceedings

Docket Numbers: RP12-893-000.

Applicants: Questar Overthrust Pipeline Company.

Description: Questar Overthrust Pipeline Company submits Annual Fuel Gas Reimbursement Report.

Filed Date: 7/30/12.

Accession Number: 20120730-5070.

Comments Due: 5 p.m. ET 8/13/12.

Docket Numbers: RP12-895-000.

Applicants: Great Lakes Gas Transmission Limited Par.

Description: Great Lakes Gas Transmission Semi Annual Transporter's Use Report.

Filed Date: 7/31/12.

Accession Number: 20120731-5096.

Comments Due: 5 p.m. ET 8/13/12.

Docket Numbers: RP12-896-000.

Applicants: Midcontinent Express Pipeline LLC.

Description: Cost and Revenue Study of Midcontinent Express Pipeline LLC.

Filed Date: 7/31/12.

Accession Number: 20120731-5105.

Comments Due: 5 p.m. ET 8/13/12.

Docket Numbers: RP12-935-000.

Applicants: Trailblazer Pipeline Company LLC.

Description: 2012-08-09 NCs 6 K's to be effective 8/10/2012.

Filed Date: 8/9/12.

Accession Number: 20120809-5097.

Comments Due: 5 p.m. ET 8/21/12.

Docket Numbers: RP12-937-000.

Applicants: Dominion Cove Point LNG, LP.

Description: DCP-RP11-2136 and RP11-2137 Settlement Compliance to be effective 4/1/2012.

Filed Date: 8/10/12.

Accession Number: 20120810-5075.

Comments Due: 5 p.m. ET 8/22/12.

Docket Numbers: RP12-938-000.

Applicants: Northern Natural Gas Company.

Description: 20120810 Carlton Flow Obligations to be effective 11/1/2012.

Filed Date: 8/10/12.

Accession Number: 20120810-5079.

Comments Due: 5 p.m. ET 8/22/12.

Docket Numbers: RP12-939-000.

Applicants: Trailblazer Pipeline Company LLC.

Description: 2012-08-10 NCs 3Ks to be effective 8/11/2012.

Filed Date: 8/10/12.

Accession Number: 20120810-5151.

Comments Due: 5 p.m. ET 8/22/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated August 13, 2012.
Nathaniel J. Davis, Sr.,
Deputy Secretary

[FR Doc. 2012-20373 Filed 8-17-12; 8:45 am]

BILLING CODE 6717-01-P